DEPARTMENT OF AGRICULTURE

Forest Service

Forest Service Manual 2000 National Forest Resource Management; Chapter 2040 National Forest System Monitoring

AGENCY: Forest Service, Agriculture (USDA).

ACTION: Notice of availability for public comment; extension of comment period.

SUMMARY: The Forest Service (Forest Service or Agency) published a notice in the Federal Register on November 28, 2023, initiating a 30-day comment period on the proposed directive contained in Forest Service manual 2000, National Forest Resource Management, chapter 2040, National Forest System Monitoring. The closing date of the original notice is scheduled for December 27, 2023. The Forest Service is extending the comment period for an additional 15 days from the previous closing date.

DATES: Comments must be received in writing by January 11, 2024.

ADDRESSES: Comments may be submitted electronically to https://cara.fs2c.usda.gov/Public/CommentInput?project=ORMS-3585. Written comments may be mailed to Mara Alexander, National Adaptive Management Program Lead, Ecosystem Management Coordination, 201 14th Street SW, Washington, DC 20024. All timely received comments, including names and addresses, will be placed in the record and will be available for public inspection and copying. The public may inspect comments received at https://cara.fs2c.usda.gov/Public/ReadingRoom?project=ORMS-3585.

FOR FURTHER INFORMATION CONTACT: Mara Alexander, National Adaptive Management Program Lead, Ecosystem Management Coordination, at 202-597-1245 or by electronic mail to mara.alexander@usda.gov. Individuals who use telecommunication devices for the deaf and hard of hearing (TDD) may call the Federal Relay Service at 800-877-8339, 24 hours a day, every day of the year, including holidays.

SUPPLEMENTARY INFORMATION: The proposed new Forest Service Manual chapter 2040 on National Forest System Monitoring will improve the Agency's ability to make evidence-based decisions as required by the 2012 Planning Rule and the Foundations for Evidence-Based Policymaking Act of 2018. The proposed directive creates a framework that clearly defines the Agency's monitoring principles, what those principles are intended to accomplish, and the roles and responsibilities for leaders at all levels to implement the policy. An analysis of existing agency policy in Forest Service Handbooks and Manuals was conducted to evaluate monitoring requirements to inform the development of a National Forest System (NFS) monitoring policy. To ensure that all members of the public who have an interest in NFS monitoring have the opportunity to provide comment, we are extending the comment period on the proposed directive to January 11, 2024.

The Forest Service has determined that the proposed new directive sets forth policy and responsibilities, with the goal of providing current direction applicable to the Forest Service monitoring program. The Forest Service is seeking public comment on the proposed directive, including the sufficiency of the proposed directive in meeting its stated objectives, ways to enhance the utility and clarity of information within the direction, or ways to streamline processes outlined. The proposed directive location of this new chapter has the potential to change. It is expected that chapter 2040 will replace chapter 1940—Inventory, Monitoring, and Assessment Activities which established direction associated solely for land management planning.

After the public comment period closes, the Forest Service will consider timely comments that are within the scope of the proposed directive in the development of the final directive. A notice of the final directive, including a response to timely comments, will be posted on the Forest Service's web page at https://www.fs.usda.gov/about-agency/regulations-policies/comment-on-directives.

Dated: November 28, 2023.
Jacqueline Emanuel,
Associate Deputy Chief, National Forest System.

[FR Doc. 2023-26481 Filed 11-30-23; 8:45 am]

BILLING CODE 3411-15-P